DEPARTMENT OF TRANSPORTATION

Federal Highway Administration

[Docket No. FHWA-2000-6782]

Notice of Request for Clearance of a New Information Collection: Adequacy of Truck Parking Facilities

AGENCY: Federal Highway Administration (FHWA), DOT.

ACTION: Notice and request for comments.

SUMMARY: In accordance with the requirement in section 3506(c)(2)(A) of the Paperwork Reduction Act of 1995, this notice announces the intention of the FHWA to request the Office of Management and Budget (OMB) to approve a new information collection related to the research project “Adequacy of Truck Parking Facilities.” This information collection will be in the form of a survey to collect information from drivers of commercial motor vehicles carrying property.

DATES: Comments must be submitted on or before March 20, 2000.

ADDRESSES: All signed, written comments should refer to the docket number that appears in the heading of this document and must be submitted to the Docket Clerk, U.S. DOT Dockets, Room PL-401, 400 Seventh Street, SW., Washington, DC 20590-0001. All comments received will be available for examination at the above address between10:00 a.m. to 5:00 p.m., e.t., Monday through Friday, except Federal holidays. Those desiring notification of receipt of comments must include a self-addressed, stamped envelope or postcard.

FOR FURTHER INFORMATION CONTACT: Kate Woerheide, Project Manager, (202) 366-5884, kathryn.woerheide@fhwa.dot.gov, Federal Highway Administration, Turner-Fairbank Highway Research Center, 6300 Georgetown Pike, McLean, Virginia 22101. Office hours are from 8:30 a.m. to 4:30 p.m., e.t., Monday through Friday, except Federal holidays.

SUPPLEMENTARY INFORMATION: Title: Adequacy of Truck Parking Facilities.

Background: In 1996 research conducted by the former FHWA Office of Motor Carrier Research and Standards and reported in Commercial Driver Rest & Parking Requirements; Making Space for Safety (Publication No. FHWA-MC-96-0010), considerable gains were made in understanding how truck drivers use public rest areas and privately-owned truck stops. The research methodology concentrated on analyzing data at public rest areas and privately-owned truck stops on the Interstate System by inventorying parking capacity and restrictions in the 48 contiguous states, direct observation of the actual use of truck parking at facilities along a medium-density trucking corridor, and in consultation with truck drivers, motor carriers, and truck stop operators. Subsequent research in this area has been mandated by Congress (Section 4027 of TEA-21) to determine the location and quantity of parking spaces at public rest areas and private truck stops along the National Highway System. The Congressional mandate specifies that current and projected truck parking shortages be assessed. In order to accurately assess shortage, it is necessary to go beyond a simple count of parking spaces available across the country. Shortages must be estimated by measuring the parking supply in light of regional, driver-preference, and other influencing factors.

Whereas truck parking supply, demand, and shortages were assessed on the Interstate Highway System in the 1996 Study, there is a need to (1) extend this assessment to the National Highway System and (2) develop a better understanding of driver-related factors that affect truck rest stop demand. To determine where drivers need truck parking, a better understanding of drivers' parking-related requirements and decision strategies is needed.

To measure truck driver parking needs and preferences, this study will employ a nationwide survey of truck drivers. The survey will help to determine: (1) How truck drivers plan for and address their parking needs; (2) how truck drivers select when, where, and at which facility they park (including public vs. private stops); and, (3) what truck drivers think of the adequacy of current parking facilities.

Approach: The survey instrument will be developed with input from several commercial vehicle industry segments. The industry segments represented during survey development will include safety stakeholders, trade associations, and carrier companies. Survey development will include a thorough search of related survey efforts, including, but not limited to, other commercial vehicle driver surveys. Survey items will reflect parking-related factors identified through literature reviews, as well as parking-related factors and concerns raised in discussions with representatives from the various industry segments. The survey will contain primarily fixed-response items. The items will address driver demographics, trip-planning, factors influencing parking decisions, and drivers' assessment of the adequacy of current commercial vehicle parking. Where appropriate, drivers will be asked these questions for both current and typical hauls. The demographic information will help determine whether different types of drivers have different parking needs.

The survey will be distributed to truck drivers at selected truck stops and rest areas across the United States. Randomly sampling drivers at parking facilities along U.S. trucking corridors will ensure that all drivers who use such parking facilities have an equal chance of being included in the study. To increase sample size, mail-out surveys may also be used.

Respondents: There will be 2,000 randomly selected truck drivers who will be requested to respond to the planned survey.

Estimated Burden Hours: The average burden per response is 15 minutes. This includes the time needed for reviewing the survey instructions, completing the appropriate survey instrument, reviewing the collection of information, and returning the information to the research team. The estimated total annual burden to survey respondents is 500 hours. The survey is a one-time survey.

Public Comments Invited

Interested parties are invited to send comments regarding any aspect of this information collection, including, but not limited to: (1) The necessity and utility of the information collection for the proper performance of the functions of the FHWA; (2) the accuracy of the estimated burden; (3) ways to enhance the quality, utility, and clarity of the collected information; and (4) ways to minimize the collection burden without reducing the quality of the collected information. Comments submitted in response to this notice will be summarized and/or included in the request for OMB's clearance of this information collection.

Electronic Access

Internet users can access all comments received by the U.S. DOT Dockets, Room PL-401, by using the universal resource locator (URL): http://dms.dot.gov. It is available 24 hours each day, 365 days each year. Please follow the instructions online for more information and help.

An electronic copy of this document may be downloaded using a modem and suitable communications software from the Government Printing Office Electronic Bulletin Board Service at telephone number 202-512-1661. Internet users may reach the Federal Register's home page at http://www.nara.gov/fedreg and the Government Printing Office's database at: http://www.access.gpo.gov/nara.

Authority: TEA-21, Section 4027; 49 CFR 1.48.

Issued on: January 13, 2000.
Michael J. Vecchietti,
Director, Office of Information and Management Services.

[FR Doc. 00-1194 Filed 1-18-00; 8:45 am]

BILLING CODE 4910-22-P